DEPARTMENT OF TRANSPORTATION

Federal Motor Carrier Safety Administration

[Docket No. FMCSA-2014-0007]

Qualification of Drivers; Exemption Applications; Vision

AGENCY: Federal Motor Carrier Safety Administration (FMCSA), DOT.

ACTION: Notice of applications for exemptions, request for comments.

SUMMARY: FMCSA announces receipt of applications from 52 individuals for exemption from the vision requirement for operating a commercial motor vehicle (CMV) in the Federal Motor Carrier Safety Regulations. The applicants are unable to meet the vision requirement in one eye for various reasons. The exemptions will allow these individuals to operate CMVs in interstate commerce without meeting the prescribed vision requirement in one eye. At the end of the comment period, the Agency will grant exemptions to the applicants listed herein if there are no adverse comments that indicate the driver's ability will not achieve a level of safety equivalent to or greater than the level of safety that would be obtained by complying with the regulations. All comments will be reviewed and evaluated by FMCSA. Some individuals appearing in this notice may not receive exemptions based on comments received during the comment period. Individuals not granted an exemption may either be published at a future date based on further evaluation or may not be deemed to meet the aforementioned level of safety if granted an exemption. These individuals will be published in a quarterly notice of exemption denials. As always, any adverse comments received after the exemption is granted will be evaluated, and if they indicate that the driver is not achieving a level of safety equivalent to or greater than the level of safety that would be obtained by complying with the regulation, the exemption will be revoked. When granted, the exemptions will allow these individuals with vision deficiencies in one eye to operate in interstate commerce.

DATES: Comments must be received on or before August 7, 2014. All comments will be investigated by FMCSA. The exemptions will be issued the day after the comment period closes.

ADDRESSES: You may submit comments bearing the Federal Docket Management System (FDMS) Docket No. FMCSA-2014-0007 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” The statute also allows the Agency to renew exemptions at the end of the 2-year period. The 52 individuals listed in this notice have recently requested such an exemption from the vision requirement in 49 CFR 391.41(b)(10), which applies to drivers of CMVs in interstate commerce. Accordingly, the Agency has evaluated the qualifications of each applicant to determine whether granting an exemption will achieve the required level of safety mandated by statute.

Qualifications of Applicants

Don R. Alexander

Mr. Alexander, 59, has had a central retinal vein occlusion in his left eye since 2007. The visual acuity in his right eye is 20/20, and in his left eye, 20/200. Following an examination in 2014, his ophthalmologist stated, “He has a central retinal vein occlusion in his LEFT EYE which dates back to 2007. In my medical opinion, given his history of exemption in the past and the lack of progression in his disease, he can perform the driving tasks required to operate a commercial vehicle.” Mr. Alexander reported that he has driven tractor-trailer combinations for 40 years, accumulating 2.17 million miles. He holds a Class A CDL from Oregon. His driving record for the last 3 years shows no crashes and no convictions for moving violations in a CMV.

Jimmy A. Baker

Mr. Baker, 50, has had amblyopia in his left eye since childhood. The visual acuity in his right eye is 20/20, and in his left eye, 20/150. Following an examination in 2014, his optometrist stated, “In my opinion, Mr. Baker has sufficient vision to perform the driving tasks required to operate a commercial vehicle.” Mr. Baker reported that he has driven tractor-trailer combinations for 19 years, accumulating 1.52 million miles. He holds a Class A CDL from Texas. His driving record for the last 3 years shows no crashes and no convictions for moving violations in a CMV.

Robert E. Bebout

Mr. Bebout, 53, has had amblyopia in his right eye since childhood. The visual acuity in his right eye is 20/400, and in his left eye, 20/20. Following an examination in 2014, his ophthalmologist stated, “In my opinion/[sic] PT [sic] has sufficient vision to perform driving tasks required for a commercial vehichle [sic].” Mr. Bebout reported that he has driven straight trucks for 10 years, accumulating 350,000 miles. He holds a Class B CDL from Ohio. His driving record for the last 3 years shows no crashes and no convictions for moving violations in a CMV.

Frank B. Belenchia, Jr.

Mr. Belenchia, 55, has had histoplasmosis in his right eye since 2010. The visual acuity in his right eye is 20/200, and in his left eye, 20/20. Following an examination in 2014, his ophthalmologist stated, “Finally, in my opinion, I do feel that this gentleman would have sufficient vision to perform a safe driving test to operate a commercial vehicle with his glasses with both eyes [sic].” Mr. Belenchia reported that he has driven tractor-trailer combinations for 14 years, accumulating 1.82 million miles. He holds a Class A CDL from Tennessee. His driving record for the last 3 years shows no crashes and no convictions for moving violations in a CMV.

Ricky W. Bettes

Mr. Bettes, 54, has a permanent misshapen pupil in his right eye due to a traumatic incident in 1990. The visual acuity in his right eye is 20/70, and in his left eye, 20/20. Following an examination in 2014, his optometrist stated, “I certify in my medical opinion that Mr. Ricky Bettes has sufficient vision to performing the driving tasks required to operate a commercial vehicle.” Mr. Bettes reported that he has driven straight trucks for 26 years, accumulating 580,320 miles. He holds an operator's license from Texas. His driving record for the last 3 years shows no crashes and no convictions for moving violations in a CMV.

Thomas J. Bommer

Mr. Bommer, 38, has had a detached retina in his left eye since 2010. The visual acuity in his right eye is 20/20, and in his left eye, 20/150. Following an examination in 2013, his optometrist stated, “My medical opinion of Mr. Bommer's visual field certifies that his defect in left gaze of his left eye is overlapped by his right eye ability, effectively making his horizontal binocular visual field at least 150 degrees. I would contest this is certainly sufficient to operate a commercial vehicle.” Mr. Bommer reported that he has driven straight trucks for 7 years, accumulating 175,000 miles. He holds a Class B CDL from North Dakota. His driving record for the last 3 years shows no crashes and no convictions for moving violations in a CMV.

Antonio A. Calixto

Mr. Calixto, 42, has a prosthetic right eye due to a traumatic incident during childhood. The visual acuity in his right eye is no light perception, and in his left eye, 20/20. Following an examination in 2014, his optometrist stated, “I [sic] my opinion he does have adequate vision for normal everyday driving and for commercial driving.” Mr. Calixto reported that he has driven straight trucks for 9 years, accumulating 68,796 miles. He holds an operator's license from Minnesota. His driving record for the last 3 years shows no crashes and no convictions for moving violations in a CMV.

James W. Carter, Jr.

Mr. Carter, 44, has amblyopia secondary to strabismus in his left eye since childhood. The visual acuity in his right eye is 20/20, and in his left eye, 20/100. Following an examination in 2014, his optometrist stated, “As Mr. Carter's visual status appears to be stable, I would suspect his vision would be adequate to operate a commercial vehicle.” Mr. Carter reported that he has driven straight trucks for 5 years, accumulating 2,500 miles, and tractor-trailer combinations for 15 years, accumulating 75,000 miles. He holds a Class A CDL from Kansas. His driving record for the last 3 years shows no crashes and no convictions for moving violations in a CMV.

Ronald G. Daniels

Mr. Daniels, 32, has had amblyopia in his right eye since birth. The visual acuity in his right eye is light perception, and in his left eye, 20/20. Following an examination in 2014, his optometrist stated that, in his medical opinion, Mr. Daniels does have the sufficient vision to operate a commercial motor vehicle. Mr. Daniels reported that he has driven straight trucks for 12 years, accumulating 1.2 million miles. He holds an operator's license from Missouri. His driving record for the last 3 years shows no crashes and 2 convictions for moving violations in a CMV; in one instance he exceeded the speed limit by 14 mph; in another instance he failed to obey a traffic signal.

Larry G. Davis

Mr. Davis, 57, has had high myopia in his right eye since birth. The visual acuity in his right eye is 20/400, and in his left eye, 20/25. Following an examination in 2014, his optometrist stated, “I have no knowledge of the specific tasks required to operate a commercial vehicle, but I can state that Mr. Davis' vision is stable and that he has been operating such vehicles successfully for many years, so I can see no reason, based on our examination, why he could not continue to do so.” Mr. Davis reported that he has driven straight trucks for 32 years, accumulating 416,000 miles. He holds a Class A CDL from Tennessee. His driving record for the last 3 years shows no crashes and no convictions for moving violations in a CMV.

Michael C. Doheny

Mr. Doheny, 48, has vision loss in his left eye due to a traumatic incident in 1991. The visual acuity in his right eye is 20/20, and in his left eye, 20/200. Following an examination in 2014, his optometrist stated, “Mr. Doheny has more than sufficient vision to perform the driving tasks required to operate a commercial vehicle locally and across state lines.” Mr. Doheny reported that he has driven straight trucks for 3 years, accumulating 3,000 miles, and tractor-trailer combinations for less than 1 year, accumulating 100 miles. He holds a Class A CDL from Connecticut. His driving record for the last 3 years shows no crashes and no convictions for moving violations in a CMV.

William R. Evridge

Mr. Evridge, 49, has optic nerve atrophy in his left eye due to a traumatic incident during childhood. The visual acuity in his right eye is 20/20, and in his left eye, counting fingers. Following an examination in 2014, his optometrist stated, “I certify that he has adequate peripheral vision to perform driving tasks necessary to drive a commercial vehicle.” Mr. Evridge reported that he has driven tractor-trailer combinations for 32 years, accumulating 432,000 miles. He holds a Class DA CDL from Kentucky. His driving record for the last 3 years shows no crashes and no convictions for moving violations in a CMV.

George P. Ford

Mr. Ford, 66, has had a central scar in his left eye since 1975. The visual acuity in his right eye is 20/20, and in his left eye, 20/400. Following an examination in 2014, his ophthalmologist stated, “I feel that Mr. Ford has sufficient vision to perform the driving tasks required to operate a commercial vehicle.” Mr. Ford reported that he has driven straight trucks for 30 years, accumulating 930,000 miles. He holds an operator's license from North Carolina. His driving record for the last 3 years shows no crashes and no convictions for moving violations in a CMV.

Lawrence A. Fox

Mr. Fox, 59, has had a corneal scar in his left eye since childhood. The visual acuity in his right eye is 20/15, and in his left eye, hand motion. Following an examination in 2014, his ophthalmologist stated, “Mr. Fox's visual deficiency is stable and in my medical opinion [he] has sufficient vision to perform . . . the driving tasks required to operate a commercial vehicle.” Mr. Fox reported that he has driven straight trucks for 37 years, accumulating 37,000 miles, and tractor-trailer combinations for 37 years, accumulating 740,000 miles. He holds a Class ABCDM CDL from Wisconsin. His driving record for the last 3 years shows no crashes and no convictions for moving violations in a CMV.

Donald H. Fuller

Mr. Fuller, 75, has had amblyopia in his right eye since childhood. The visual acuity in his right eye is 20/400, and in his left eye, 20/30. Following an examination in 2014, his ophthalmologist stated, “Poor central vision OD and this has been stable since young childhood and I see no acute deterioration in his vision . . . This letter/note supports Mr [sic] Fuller in obtaining and keeping his CDL . . . This is the first time I have evaluated him and due to his clean record I feel he is safe to cont [sic] driving under CDL guidelines . . . In my medical opinion I feel he can maintain his CDL . . . He must cont [sic] to wear correction.” Mr. Fuller reported that he has driven tractor-trailer combinations for 30 years, accumulating 1.95 million miles. He holds a Class A CDL from New York. His driving record for the last 3 years shows no crashes and no convictions for moving violations in a CMV.

Viktor V. Goluda

Mr. Goluda, 22, has had refractive amblyopia secondary to injury in his right eye since childhood. The visual acuity in his right eye is 20/80, and in his left eye, 20/20. Following an examination in 2014, his optometrist stated, “It is my professional opinion that Viktor Goluda has sufficient vision to perform the driving tasks required to operate a commercial vehicle.” Mr. Goluda reported that he has driven straight trucks for 4 years, accumulating 120,000 miles. He holds an operator's license from South Carolina. His driving record for the last 3 years shows no crashes and 1 conviction for a moving violation in a CMV; he exceeded that speed limit by 20 mph.

Todd M. Harguth

Mr. Harguth, 55, has had a central retinal vein occlusion in his left eye since 2006. The visual acuity in his right eye is 20/20, and in his left eye, 20/400. Following an examination in 2014, his optometrist stated, “Todd has sufficient vision to perform the driving tasks required to operate a commercial vehicle, in my opinion.” Mr. Harguth reported that he has driven straight trucks for 40 years, accumulating 200,000 miles, and tractor-trailer combinations for 25 years, accumulating 780,000 miles. He holds a Class A CDL from Minnesota. His driving record for the last 3 years shows no crashes and no convictions for moving violations in a CMV.

Dennis W. Helgeson

Mr. Helgeson, 59, has vision loss in his left eye due to a traumatic incident during childhood. The visual acuity in his right eye is 20/20, and in his left eye, 20/400. Following an examination in 2014, his optometrist stated, “He has sufficient vision to operate a commercial vehicle.” Mr. Helgeson reported that he has driven straight trucks for 2 years, accumulating 11,000 miles. He holds a Class B CDL from Minnesota. His driving record for the last 3 years shows no crashes and no convictions for moving violations in a CMV.

Ronnie L. Henry

Mr. Henry, 53, has complete loss of vision in his left eye due to a traumatic incident in 1997. The visual acuity in his right eye is 20/20, and in his left eye, no light perception. Following an examination in 2014, his optometrist stated, “I certify that, in my medical opinion, this patient has sufficient vision to operate a commercial motor vehicle.” Mr. Henry reported that he has driven tractor-trailer combinations for 27 years, accumulating 810,000 miles. He holds a Class A CDL from Kansas. His driving record for the last 3 years shows no crashes and no convictions for moving violations in a CMV.

Clarence K. Hill

Mr. Hill, 42, has a macular scar with a macular hole in his left eye due to a traumatic incident in 1989. The visual acuity in his right eye is 20/20, and in his left eye, 20/200. Following an examination in 2014, his optometrist stated, “I feel that Mr. Hill has sufficient vision at this time to perform the driving tasks to operate a commercial vehicle.” Mr. Hill reported that he has driven tractor-trailer combinations for 3 years, accumulating 180,546 miles. He holds a Class A CDL from North Carolina. His driving record for the last 3 years shows no crashes and no convictions for moving violations in a CMV.

James Holmes

Mr. Holmes, 46, has had amblyopia in his left eye since childhood. The visual acuity in his right eye is 20/20, and in his left eye, 20/400. Following an examination in 2013, his optometrist stated, “Regarding his eyes and vision, according to my medial [sic] opinion, there is no reason Mr. Holmes cannot safely drive a commercial vehicle.” Mr. Holmes reported that he has driven straight trucks for 2 years, accumulating 40,000 miles. He holds an operator's license from Georgia. His driving record for the last 3 years shows no crashes and no convictions for moving violations in a CMV.

Johnny L. Irving

Mr. Irving, 64, has had a macular hole and glaucoma in his right eye since 2007. The visual acuity in his right eye is 20/160, and in his left eye, 20/20. Following an examination in 2014, his ophthalmologist stated that, in his medical opinion, Mr. Irving does have sufficient vision to operate a commercial motor vehicle. Mr. Irving reported that he has driven tractor-trailer combinations for 13 years, accumulating 1.63 million miles. He holds a Class A CDL from Mississippi. His driving record for the last 3 years shows no crashes and no convictions for moving violations in a CMV.

Garfield J. Johnson

Mr. Johnson, 64, has glaucoma in his right eye due to a traumatic incident in 1998. The visual acuity in his right eye is counting fingers, and in his left eye, 20/20. Following an examination in 2013, his ophthalmologist stated, “Mr. Johnson has maintained a commercial license since 1966 per history of patient with good driving record and thus has demonstrated that he has sufficient vision to perform the driving tasks required to operate a commercial vehicle and should qualify for exemption based upon his longstanding good driving history of commercial vehicles per patient with the present visual deficiency in right eye.” Mr. Johnson reported that he has driven straight trucks for 47 years, accumulating 235,000 miles, tractor-trailer combinations for 47 years, accumulating 2.35 million miles, and buses for 20 years, accumulating 200,000 miles. He holds a Class A CDL from North Carolina. His driving record for the last 3 years shows no crashes and no convictions for moving violations in a CMV.

Kevin L. Jones

Mr. Jones, 41, has a prosthetic left eye due to a traumatic incident during childhood. The visual acuity in his right eye is 20/15, and in his left eye, no light perception. Following an examination in 2014, his ophthalmologist stated that, in his opinion, Mr. Jones does have sufficient vision to operate a commercial motor vehicle safely. Mr. Jones reported that he has driven straight trucks for 14 years, accumulating 210,000 miles. He holds an operator's license from Georgia. His driving record for the last 3 years shows no crashes and no convictions for moving violations in a CMV.

Michael L. Kautz

Mr. Kautz, 51, has had a central vein occlusion in his right eye since 2002. The visual acuity in his right eye is 20/150, and in his left eye, 20/20. Following an examination in 2014, his optometrist stated, “Based on Mr. Keutz's [sic] eye exam today, it is in my professional opinion that he demonstrates sufficient vision to perfomr [sic] the driving tasks required to operate a commercial vehicle.” Mr. Kautz reported that he has driven straight trucks for 15 years, accumulating 225,000 miles. He holds an operator's license from California. His driving record for the last 3 years shows no crashes and no convictions for moving violations in a CMV.

Keith A. Kelley

Mr. Kelley, 56, has had chronic centreal serous chorioretinopathy with early polypoidal choroidal vasculopathy in his left eye since 2005. The visual acuity in his right eye is 20/15, and in his left eye, 20/70. Following an examination in 2014, his ophthalmologist stated, “In my opinion, he will have no problem performing driving tests or operating a commercial vehicle and has done so without problem for many years with his current minor visual deficit in one eye.” Mr. Kelley reported that he has driven tractor-trailer combinations for 25 years, accumulating 2.22 million miles. He holds a Class A CDL from Maine. His driving record for the last 3 years shows no crashes and no convictions for moving violations in a CMV.

Stetson W. King

Mr. King, 56, has had amblyopia in his right eye since childhood. The visual acuity in his right eye is 20/70, and in his left eye, 20/25. Following an examination in 2014, his optometrist stated, “I certify that Mr. Steven [sic] King has sufficient vision to perform driving tasks required to operate a commercial vehicle.” Mr. King reported that he has driven straight trucks for 12 years, accumulating 600,000 miles. He holds a Class B CDL from Florida. His driving record for the last 3 years shows no crashes and no convictions for moving violations in a CMV.

Bradley E. Loggins

Mr. Loggins, 34, has a macular scar in his left eye due to a traumatic incident during childhood. The visual acuity in his right eye is 20/20, and in his left eye, 20/350. Following an examination in 2014, his optometrist stated, “In my medical opinion, he has sufficient vision to perform driving tasks required to operate a commercial vehicle.” Mr. Loggins reported that he has driven straight trucks for 8 years, accumulating 8,000 miles, and tractor-trailer combinations for 8 years, accumulating 640,000 miles. He holds a Class A CDL from Alabama. His driving record for the last 3 years shows no crashes and no convictions for moving violations in a CMV.

Joe C. Mason

Mr. Mason, 66, has complete loss of vision in his left eye due to a traumatic incident in 1989. The visual acuity in his right eye is 20/20, and in his left eye, no light perception. Following an examination in 2014, his ophthalmologist stated, “I believe that he has sufficient vision to perform the driving task required to operate a commercial vehicle.” Mr. Mason reported that he has driven straight trucks for 9 years, accumulating 1,800 miles, and tractor-trailer combinations for 20 years, accumulating 40,000 miles. He holds a Class A CDL from Arkansas. His driving record for the last 3 years shows no crashes and no convictions for moving violations in a CMV.

David L. Miller

Mr. Miller, 60, has had a subforeal choroidal neovascular membrane in his right eye since 2004. The visual acuity in his right eye is 20/400, and in his left eye, 20/20. Following an examination in 2014, his optometrist stated, “David Miller has been under my care since 3/02/1999 and has sufficient vision to perform the driving tasks required to operate a commercial vehicle and obtain a CDL license.” Mr. Miller reported that he has driven buses for 12 years, accumulating 72,000 miles. He holds a Class C CDL from Ohio. His driving record for the last 3 years shows no crashes and no convictions for moving violations in a CMV.

Earl L. Mokma

Mr. Mokma, 67, has had amblyopia in his left eye since childhood. The visual acuity in his right eye is 20/20, and in his left eye, counting fingers. Following an examination in 2014, his optometrist stated, “In my opinion Earl has sufficient vision to drive a commercial vehicle.” Mr. Mokma reported that he has driven straight trucks for 43 years, accumulating 860,000 miles, and tractor-trailer combinations for 5 years, accumulating 100,000 miles. He holds a Class CA CDL from Michigan. His driving record for the last 3 years shows no crashes and no convictions for moving violations in a CMV.

Timothy W. Nappier

Mr. Nappier, 50, has had a retinal detachment and bilateral intermediate uveitis in his left eye since 2011. The visual acuity in his right eye is 20/20, and in his left eye, 20/100. Following an examination in 2014, his optometrist stated that, in his medical opinion, Mr. Nappier does have the sufficient vision to operate a commercial motor vehicle. Mr. Nappier reported that he has driven tractor-trailer combinations for 24 years, accumulating 60,000 miles. He holds a Class CA CDL from Michigan. His driving record for the last 3 years shows no crashes and one conviction for a moving violation in a CMV; he exceeded the speed limit by 5 mph.

Donald L. Nisbet

Mr. Nisbet, 51, has had amblyopia in his left eye since childhood. The visual acuity in his right eye is 20/20, and in his left eye, 20/200. Following an examination in 2014, his ophthalmologist stated, “In my opinion, he has sufficient vision to perform the driving tasks required to operate a commercial vehicle.” Mr. Nisbet reported that he has driven straight trucks for 35 years, accumulating 875,000 miles, and buses for 2 years, accumulating 2,000 miles. He holds a Class B CDL from Washington. His driving record for the last 3 years shows no crashes and no convictions for moving violations in a CMV.

Jace E. Nixon

Mr. Nixon, 49, has had amblyopia in his right eye since childhood. The visual acuity in his right eye is 20/50, and in his left eye, 20/20. Following an examination in 2014, his optometrist stated, “In my professional opinion, I believe Jace Nixon is visually competent to drive a commercial vehicle.” Mr. Nixon reported that he has driven straight trucks for 30 years, accumulating 45,000 miles, tractor-trailer combinations for 25 years, accumulating 37,500 miles, and buses for 1 year, accumulating 3,000 miles. He holds a Class A CDL from Iowa. His driving record for the last 3 years shows no crashes and no convictions for moving violations in a CMV.

Don R. Padley

Mr. Padley, 70, has complete loss of vision in his left eye due to a traumatic incident in 1972. The visual acuity in his right eye is 20/40, and in his left eye, no light perception. Following an examination in 2014, his optometrist stated, “In my opinion, Mr. Padley has sufficient vision to perform the driving tasks required to operate a commercial vehicle.” Mr. Padley reported that he has driven tractor-trailer combinations for 48 years, accumulating 4.8 million miles. He holds a Class A CDL from Missouri. His driving record for the last 3 years shows no crashes and 1 conviction for a moving violation in a CMV; he exceeded the speed limit by 10 mph.

David T. Perkins

Mr. Perkins, 43, has had optic nerve hypoplasia in his right eye since birth. The visual acuity in his right eye is no light perception, and in his left eye, 20/15. Following an examination in 2014, his ophthalmologist stated, “I do not believe his visual disability in the right eye significantly impairs his ability to drive a commercial vehicle with reasonable safety.” Mr. Perkins reported that he has driven straight trucks for 25 years, accumulating 212,500 miles. He holds a Class B CDL from New York. His driving record for the last 3 years shows no crashes and no convictions for moving violations in a CMV.

Donald W. Rich

Mr. Rich, 80, has had aphakia and an optic nerve pallor in his left eye since 1964. The visual acuity in his right eye is 20/25, and in his left eye, no light perception. Following an examination in 2014, his ophthalmologist stated that he certifies that, in his medical opinion, Mr. Rich has sufficient vision to perform the driving tasks required to operate a commercial vehicle. Mr. Rich reported that he has driven straight trucks for 42 years, accumulating 504,000 miles, and tractor-trailer combinations for 10 years, accumulating 120,000 miles. He holds a Class A CDL from Illinois. His driving record for the last 3 years shows no crashes and no convictions for moving violations in a CMV.

Joaquin C. Rodriguez

Mr. Rodriguez, 46, has had cellophane retinopathy in his right eye since 2008. The visual acuity in his right eye is 20/200, and in his left eye, 20/20. Following an examination in 2014, his optometrist stated, “Joaquin sees well enough to perform the driving tasks required to operate a commercial vehicle.” Mr. Rodriguez reported that he has driven straight trucks for 30 years, accumulating 720,000 miles. He holds an operator's license from New Mexico. His driving record for the last 3 years shows no crashes and no convictions for moving violations in a CMV.

Harry W. Root

Mr. Root, 54, has optic nerve atrophy in his right eye due to a traumatic incident during childhood. The visual acuity in his right eye is 20/2000, and in his left eye, 20/20. Following an examination in 2014, his optometrist stated, “His vision is adequate to operate a commercial vehicle in my opinion.” Mr. Root reported that he has driven tractor-trailer combinations for 4 years, accumulating 60,000 miles. He holds a Class A CDL from Minnesota. His driving record for the last 3 years shows no crashes and no convictions for moving violations in a CMV.

David A. Shaw

Mr. Shaw, 53, has aphakia with a corneal scar and iris rupture in his right eye due to a traumatic incident during childhood. The visual acuity in his right eye is counting fingers, and in his left eye, 20/15. Following an examination in 2014, his optometrist stated, “It is my medical opinion that David has the necessary vision required to operate a commercial vehicle.” Mr. Shaw reported that he has driven tractor-trailer combinations for 20 years, accumulating 2.16 million miles. He holds a Class A CDL from California. His driving record for the last 3 years shows no crashes and no convictions for moving violations in a CMV.

Kenneth C. Smith

Mr. Smith, 54, has had glaucoma and macular degeneration in his left eye since 2010. The visual acuity in his right eye is 20/20, and in his left eye, 20/50. Following an examination in 2014, his ophthalmologist stated, “It is my opinion that Mr. Smith has sufficient vision to operate a commercial vehicle.” Mr. Smith reported that he has driven tractor-trailer combinations for 13 years, accumulating 1.01 million miles. He holds a Class A CDL from Mississippi. His driving record for the last 3 years shows no crashes and no convictions for moving violations in a CMV.

Paul W. Sorenson

Mr. Sorenson, 58, has had retinal detachment in his right eye since 2012. The visual acuity in his right eye is 20/50, and in his left eye, 20/25. Following an examination in 2014, his optometrist stated, “In my opinion, he has sufficient and adequate vision needed to operate a commercial vehicle.” Mr. Sorenson reported that he has driven tractor-trailer combinations for 36 years, accumulating 5.62 million miles. He holds a Class A CDL from Utah. His driving record for the last 3 years shows no crashes and no convictions for moving violations in a CMV.

Randall H. Tempel

Mr. Tempel, 61, has a retinal detachment and cataract in his right eye due to a traumatic incident in 1998. The visual acuity in his right eye is counting fingers, and in his left eye, 20/20. Following an examination in 2014, his optometrist stated, “In my opinion he has sufficient vision to perform the driving tasks required to operative [sic] a commercial vehicle.” Mr. Tempel reported that he has driven straight trucks for 38 years, accumulating 76,000 miles, tractor-trailer combinations for 18 years, accumulating 1.98 million miles, and buses for 1 year, accumulating 1,000 miles. He holds a Class A CDL from Montana. His driving record for the last 3 years shows no crashes and no convictions for moving violations in a CMV.

Christopher P. Thornby

Mr. Thornby, 50, has a prosthetic right eye due to a traumatic incident during childhood. The visual acuity in his right eye is no light perception, and in his left eye, 20/20. Following an examination in 2014, his optometrist stated, “I had the pleasure of seeing Chris Thornby in my office on Monday, April 7, 2014 for a comprehensive eye examination for his interstate commercial DOT license . . . In my professional opinion, Mr. Thornby can safely perform the driving tasks required to operate a motor vehicle with or without a corrective lens for his remaining eye (left). His prosthetic right eye, other than limited depth perception, does not limit this ability.” Mr. Thornby reported that he has driven straight trucks for 5 years, accumulating 115,000 miles, and buses for 1 year, accumulating 20,000 miles. He holds a Class A CDL from Minnesota. His driving record for the last 3 years shows no crashes and no convictions for moving violations in a CMV.

Cory J. Tivnan

Mr. Tivnan, 37, has had amblyopia in his left eye since childhood. The visual acuity in his right eye is 20/20, and in his left eye, 20/60. Following an examination in 2014, his optometrist stated, “In my opinion, this man has sufficient vision to perform the driving tasks required to operate a Commercial Motor Vehicle [sic].” Mr. Tivnan reported that he has driven straight trucks for 1 year, accumulating 35,000 miles, and tractor-trailer combinations for 12 years, accumulating 1.2 million miles. He holds a Class A CDL from Washington. His driving record for the last 3 years shows no crashes and no convictions for moving violations in a CMV.

Melvin V. VanMeter

Mr. VanMeter, 55, has had longstanding optic nerve atrophy in his left eye since childhood. The visual acuity in his right eye is 20/25, and in his left eye, counting fingers. Following an examination in 2014, his ophthalmologist stated, “I certify, that in my professional opinion, Mr. Van Meter's [sic] visual deficiency is stable, and it is my professional opinion, based on his many years operating a commercial vehicle with this current level of vision, that he has sufficient vision to perform the driving tasks required to operate a commercial vehicle.” Mr. VanMeter reported that he has driven tractor-trailer combinations for 33 years, accumulating 165,000 miles. He holds an operator's license from Pennsylvania. His driving record for the last 3 years shows no crashes and no convictions for moving violations in a CMV.

Kent J. VanRoekel

Mr. VanRoekel, 52, has had complete loss of vision in his right eye since birth. The visual acuity in his right eye is no light perception, and in his left eye, 20/20. Following an examination in 2013, his optometrist stated, “I certify in my medical opinion that Kent VanRoekel has sufficient stable vision to perform the driving tasks required to operate a commercial vehicle.” Mr. VanRoekel reported that he has driven straight trucks for 5 years, accumulating 125,000 miles, and buses for 5 months, accumulating 20,000 miles. He holds a Class C CDL from Minnesota. His driving record for the last 3 years shows no crashes and no convictions for moving violations in a CMV.

Wilbert Walden

Mr. Walden, 51, has had optic atrophy in his right eye since childhood. The visual acuity in his right eye is hand motion, and in his left eye, 20/20. Following an examination in 2014, his optometrist stated, “Hand motion vision in right eye. Right eye vision reduction since he was 4 years old. Fine to operate a commercial motor vehicle.” Mr. Walden reported that he has driven straight trucks for 5 years, accumulating 150,000 miles, and tractor-trailer combinations for 6 years, accumulating 240,000 miles. He holds a Class A CDL from North Carolina. His driving record for the last 3 years shows no crashes and no convictions for moving violations in a CMV.

Patrick J. Ward

Mr. Ward, 64, has had strabismic amblyopia in his right eye since childhood. The visual acuity in his right eye is 20/400, and in his left eye, 20/20. Following an examination in 2014, his ophthalmologist stated, “Mr [sic] Ward has a corrected visual acuity right eye of 20/400 for distance, left eye corrected visual acuity 20/20 for distance . . . In my opinion the patient, with this history, can continue driving a commercial vehicle and should be given the exemption.” Mr. Ward reported that he has driven straight trucks for 40 years, accumulating 800,000 miles. He holds a Class B CDL from New Jersey. His driving record for the last 3 years shows no crashes and no convictions for moving violations in a CMV.

Ricky W. Witt

Mr. Witt, 60, has a prosthetic left eye due to a traumatic incident during childhood. The visual acuity in his right eye is 20/20, and in his left eye, no light perception. Following an examination in 2014, his optometrist stated, “I feel that Mr. Witt has sufficient vision to perform the driving tasks required to operate a commercial vehicle.” Mr. Witt reported that he has driven tractor-trailer combinations for 40 years, accumulating 1.56 million miles. He holds a Class A CDL from Iowa. His driving record for the last 3 years shows no crashes and no convictions for moving violations in a CMV.

John D. Woods

Mr. Woods, 47, has had a retinal detachment his right eye since 1987. The visual acuity in his right eye is 20/50, and in his left eye, 20/20. Following an examination in 2014, his optometrist stated, “His vision is stable and with his left eye unaffected, Mr. Woods is very capable of operating a commercial motorized vehicle while wearing his prescription glasses.” Mr. Woods reported that he has driven straight trucks for 2 years, accumulating 110,000 miles, and tractor-trailer combinations for 24 years, accumulating 1.44 million miles. He holds a Class CA CDL from Michigan. His driving record for the last 3 years shows no crashes and no convictions for moving violations in a CMV.

Zachary J. Workman

Mr. Workman, 27, has had amblyopia in his right eye since childhood. The visual acuity in his right eye is 20/50, and in his left eye, 20/20. Following an examination in 2014, his optometrist stated, “In my medical opinion Mr [sic] Workman has sufficient vision to perform the driving tasks required to operate a commercial vehicle.” Mr. Workman reported that he has driven straight trucks for 4 years, accumulating 208,000 miles. He holds a Class B CDL from Idaho. His driving record for the last 3 years shows no crashes and no convictions for moving violations in a CMV.

FMCSA has evaluated the eligibility of the 52 applicants and determined that granting the exemptions to these individuals would achieve a level of safety equivalent to or greater than the level that would be achieved by complying with the current regulation 49 CFR 391.41(b)(10). Absent the receipt of comments indicating that a driver's ability would not achieve the aforementioned level of safety, the Agency will grant the drivers an exemption the day after the comment period closes.

Vision and Driving Experience of the Applicants

The vision requirement in the FMCSRs provides:

A person is physically qualified to drive a commercial motor vehicle if that person has distant visual acuity of at least 20/40 (Snellen) in each eye without corrective lenses or visual acuity separately corrected to 20/40 (Snellen) or better with corrective lenses, distant binocular acuity of at least 20/40 (Snellen) in both eyes with or without corrective lenses, field of vision of at least 70° in the horizontal meridian in each eye, and the ability to recognize the colors of traffic signals and devices showing red, green, and amber (49 CFR 391.41(b)(10)).

FMCSA recognizes that some drivers do not meet the vision requirement but have adapted their driving to accommodate their vision limitation and demonstrated their ability to drive safely. The 52 exemption applicants listed in this notice are in this category. They are unable to meet the vision requirement in one eye for various reasons, and in most cases their eye conditions were not recently developed. Twenty-nine of the applicants were either born with their vision impairments or have had them since childhood. The 23 individuals that sustained their vision conditions as adults have had it for a period of 2 to 50 years.

Although each applicant has one eye which does not meet the vision requirement in 49 CFR 391.41(b)(10), each has at least 20/40 corrected vision in the other eye, and in a doctor's opinion, has sufficient vision to perform all the tasks necessary to operate a CMV. Doctors' opinions are supported by the applicants' possession of valid commercial driver's licenses (CDLs) or non-CDLs to operate CMVs. Before issuing CDLs, States subject drivers to knowledge and skills tests designed to evaluate their qualifications to operate a CMV.

All of these applicants satisfied the testing requirements for their State of residence. By meeting State licensing requirements, the applicants demonstrated their ability to operate a CMV, with their limited vision, to the satisfaction of the State.

While possessing a valid CDL or non-CDL, these 52 drivers have been authorized to drive a CMV in intrastate commerce, even though their vision disqualified them from driving in interstate commerce. The qualifications, experience, and medical condition of each applicant is stated and discussed in detail above.

Basis for Exemption Determination

Under 49 U.S.C. 31136(e) and 31315, FMCSA may grant an exemption from the vision requirement in 49 CFR 391.41(b)(10) if the exemption is likely to achieve an equivalent or greater level of safety than would be achieved without the exemption. Without the exemption, applicants will continue to be restricted to intrastate driving. With the exemption, applicants can drive in interstate commerce. Thus, our analysis focuses on whether an equal or greater level of safety is likely to be achieved by permitting each of these drivers to drive in interstate commerce as opposed to restricting him or her to driving in intrastate commerce.

To evaluate the effect of these exemptions on safety, FMCSA considered the medical reports about the applicants' vision as well as their driving records and experience with the vision deficiency.

To qualify for an exemption from the vision requirement, FMCSA requires a person to present verifiable evidence that he/she has driven a commercial vehicle safely with the vision deficiency for the past 3 years. Recent driving performance is especially important in evaluating future safety, according to several research studies designed to correlate past and future driving performance. Results of these studies support the principle that the best predictor of future performance by a driver is his/her past record of crashes and traffic violations. Copies of the studies may be found at Docket Number FMCSA-1998-3637.

FMCSA believes it can properly apply the principle to monocular drivers, because data from the Federal Highway Administration's (FHWA) former waiver study program clearly demonstrate the driving performance of experienced monocular drivers in the program is better than that of all CMV drivers collectively (See 61 FR 13338, 13345, March 26, 1996). The fact that experienced monocular drivers demonstrated safe driving records in the waiver program supports a conclusion that other monocular drivers, meeting the same qualifying conditions as those required by the waiver program, are also likely to have adapted to their vision deficiency and will continue to operate safely.

The first major research correlating past and future performance was done in England by Greenwood and Yule in 1920. Subsequent studies, building on that model, concluded that crash rates for the same individual exposed to certain risks for two different time periods vary only slightly (See Bates and Neyman, University of California Publications in Statistics, April 1952). Other studies demonstrated theories of predicting crash proneness from crash history coupled with other factors. These factors—such as age, sex, geographic location, mileage driven and conviction history—are used every day by insurance companies and motor vehicle bureaus to predict the probability of an individual experiencing future crashes (See Weber, Donald C., “Accident Rate Potential: An Application of Multiple Regression Analysis of a Poisson Process,” Journal of American Statistical Association, June 1971). A 1964 California Driver Record Study prepared by the California Department of Motor Vehicles concluded that the best overall crash predictor for both concurrent and non-concurrent events is the number of single convictions. This study used 3 consecutive years of data, comparing the experiences of drivers in the first 2 years with their experiences in the final year.

Applying principles from these studies to the past 3-year record of the 52 applicants, none of the drivers were involved in crashes and four were convicted of moving violations in a CMV. All the applicants achieved a record of safety while driving with their vision impairment, demonstrating the likelihood that they have adapted their driving skills to accommodate their condition. As the applicants' ample driving histories with their vision deficiencies are good predictors of future performance, FMCSA concludes their ability to drive safely can be projected into the future.

FMCSA believes that the applicants' intrastate driving experience and history provide an adequate basis for predicting their ability to drive safely in interstate commerce. Intrastate driving, like interstate operations, involves substantial driving on highways on the interstate system and on other roads built to interstate standards. Moreover, driving in congested urban areas exposes the driver to more pedestrian and vehicular traffic than exists on interstate highways. Faster reaction to traffic and traffic signals is generally required because distances between them are more compact. These conditions tax visual capacity and driver response just as intensely as interstate driving conditions. The veteran drivers in this proceeding have operated CMVs safely under those conditions for at least 3 years, most for much longer. Their experience and driving records lead us to believe that each applicant is capable of operating in interstate commerce as safely as he/she has been performing in intrastate commerce. Consequently, FMCSA finds that exempting these applicants from the vision requirement in 49 CFR 391.41(b)(10) is likely to achieve a level of safety equal to that existing without the exemption. For this reason, the Agency is granting the exemptions for the 2-year period allowed by 49 U.S.C. 31136(e) and 31315 to the 52 applicants listed in this notice.

We recognize that the vision of an applicant may change and affect his/her ability to operate a CMV as safely as in the past. As a condition of the exemption, therefore, FMCSA will impose requirements on the 52 individuals consistent with the Grandfathering provisions applied to drivers who participated in the Agency's vision waiver program.

Those requirements are found at 49 CFR 391.64(b) and include the following: (1) That each individual be physically examined every year (a) by an ophthalmologist or optometrist who attests that the vision in the better eye continues to meet the requirement in 49 CFR 391.41(b)(10) and (b) by a medical examiner who attests that the individual is otherwise physically qualified under 49 CFR 391.41; (2) that each individual provide a copy of the ophthalmologist's or optometrist's report to the medical examiner at the time of the annual medical examination; and (3) that each individual provide a copy of the annual medical certification to the employer for retention in the driver's qualification file, or keep a copy in his/her driver's qualification file if he/she is self-employed. The driver must have a copy of the certification when driving, for presentation to a duly authorized Federal, State, or local enforcement official.

In accordance with 49 U.S.C. 31136(e) and 31315, each exemption will be valid for 2 years unless revoked earlier by FMCSA. The exemption will be revoked if: (1) The person fails to comply with the terms and conditions of the exemption; (2) the exemption has resulted in a lower level of safety than was maintained before it was granted; or (3) continuation of the exemption would not be consistent with the goals and objectives of 49 U.S.C. 31136 and 31315.

Request for Comments

In accordance with 49 U.S.C. 31136(e) and 31315, FMCSA requests public comment from all interested persons on the exemption petitions described in this notice. The Agency will consider all comments received before the close of business August 7, 2014. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket number FMCSA-2014-0007 and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and material received during the comment period and may change this proposed rule based on your comments. FMCSA may issue a final rule at any time after the close of the comment period.

Viewing Comments and Documents

To view comments, as well as any documents mentioned in this preamble, To submit your comment online, go to http://www.regulations.gov and in the search box insert the docket number FMCSA-2014-0007 and click “Search.” Next, click “Open Docket Folder” and you will find all documents and comments related to the proposed rulemaking.

Issued on: June 30, 2014.
Larry W. Minor,
Associate Administrator for Policy.

[FR Doc. 2014-15930 Filed 7-7-14; 8:45 am]

BILLING CODE 4910-EX-P